DEPARTMENT OF DEFENSE

[DoD-2007-OS-0134]

Office of Secretary of Defense; Privacy Act of 1974; System of Records

AGENCY: Defense Threat Reduction Agency, DoD.

ACTION: Notice to amend a system of records.

SUMMARY: Defense Threat Reduction Agency is amending a system of records notices in its existing inventory of record systems subject to the Privacy Act of 1974, (5 U.S.C. 552a), as amended.

DATES: This proposed action will be effective without further notice on January 17, 2008, unless comments are received which result in a contrary determination.

ADDRESSES: Send comments to the Freedom of Information and Privacy Office, Defense Threat Reduction Agency, 8725 John J. Kingman Road, Fort Belvoir, VA 22060-6201.

FOR FURTHER INFORMATION CONTACT: Ms. Brenda Carter at (703) 767-1771.

SUPPLEMENTARY INFORMATION: The Defense Threat Reduction Agency notices for systems of records subject to the Privacy Act of 1974 (5 U.S.C. 552a), as amended, have been published in the Federal Register and are available from the address above.

The specific changes to the record systems being amended are set forth below followed by the notice, as amended, published in its entirety. The proposed amendments are not within the purview of subsection (r) of the Privacy Act of 1974 (5 U.S.C. 552a), as amended, which requires the submission of a new or altered system report.

Dated: December 11, 2007.
L.M. Bynum,
Alternative OSD Federal Register Liaison Officer, Department of Defense.

HDTRA 022

SYSTEM NAME:

Learning Management System (LMS) (January 8, 2007, 72 FR 729).

CHANGES:

* * * * *

CATEGORIES OF RECORDS IN THE SYSTEM:

Delete “social security number”.

AUTHORITY FOR MAINTENANCE OF THE SYSTEM:

Delete “E.O. 9397.”

* * * * *

RETRIEVABILITY:

Delete from entry “Social Security Number.”

* * * * *

HDTRA 022

SYSTEM NAME:

Learning Management System (LMS).

SYSTEM LOCATION:

Defense Threat Reduction Agency, Policy & Program, Development Division, 8725 John J. Kingman Road, Stop 6201, Fort Belvoir, VA 22060-6201.

CATEGORIES OF INDIVIDUALS COVERED BY THE SYSTEM:

Defense Threat Reduction Agency (DTRA) employees and contractor personnel receiving training funded or sponsored by DTRA. Department of Defense military personnel and non-appropriated fund personnel may be included in the system.

CATEGORIES OF RECORDS IN THE SYSTEM:

Name, occupational series, grade, and supervisory status; registration, student development curricula, and training data, including start and completion dates, course descriptions, and related data. Where training is required for professional licenses, certification, or recertification, the file may include proficiency data in one or more skill areas. Electronic records may contain computer logon data.

AUTHORITY FOR MAINTENANCE OF THE SYSTEM:

5 U.S.C. Chapter 41, the Government Employees Training Act; 10 U.S.C. 1701 et seq., Defense Acquisition Workforce Improvement Act; E.O. 11348, Providing for the further training of Government employees, as amended by E.O. 12107, Relating to the Civil Service Commission and labor-management in the Federal Service; and 5 CFR part 410, Office of Personnel Management-Training.

PURPOSE(S):

Information is used to manage and administer training and development programs; to identify individual training needs; to screen and select candidates for training; and for reporting, forecasting, tracking, monitoring, and assessment purposes. Statistical data, with all personal identifiers removed, are used to compare training completion data among different DTRA activities.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the Department of Veterans Affairs for inspecting, surveying, auditing, or evaluating apprentice or on-the-job training programs.

To the Department of Labor for inspecting, surveying, auditing, or evaluating apprentice training programs and other programs under its jurisdiction.

To Federal, state, and local agencies and oversight entities to track, manage, and report on mandatory training requirements and certifications.

To public and private sector educational, training, and conferencing entities for participant enrollment, tracking, evaluation, and payment reconciliation purposes.

To Federal agencies for screening and selecting candidates for training or developmental programs sponsored by the agency.

To Federal oversight agencies for investigating, reviewing, resolving, negotiating, settling, or hearing complaints, grievances, or other matters under its cognizance.

The DoD “Blanket Routine Uses” set forth at the beginning of DTRA's compilation of systems of records notices apply to this system.

POLICIES AND PRACTICES FOR STORING, RETRIEVING, ACCESSING, RETAINING, AND DISPOSING OF RECORDS IN THE SYSTEM:

STORAGE:

Records are stored in paper and electronic form.

RETRIEVABILITY:

Automated records may be retrieved by name, logon identification, or by a combination of these data elements. Manual records are retrieved by employee last name.

SAFEGUARDS:

Records are maintained in physical and electronic areas accessible only to DTRA personnel who must use the records to perform assigned duties. Physical access is limited through the use of locks, guards, card swipe, and other administrative procedures. The electronic records are deployed on accredited systems with access restricted by the use of login, password, and/or card swipe protocols. The web-based files are accessible only via the Agency's intranet, which is protected in accordance with approved information assurance protocols. Employees are warned through screen log-on protocols and periodic briefings of the consequences of improper access or use of the data on the Agency intranet. In addition, users are trained to lock or shutdown their workstations when leaving the work area. During non-duty hours, records are secured in access-controlled buildings, offices, cabinets or computer systems.

RETENTION AND DISPOSAL:

Training files are destroyed when 5 years old or when superseded, whichever is sooner. Employee agreements, individual training plans, progress reports, and similar records used in intern, upward mobility, career management, and similar developmental training programs are destroyed 1 year after employee has completed the program.

SYSTEM MANAGER(S) AND ADDRESS:

Learning Technology Specialist, Defense Threat Reduction Agency, Policy & Program Development Division, 8725 John J. Kingman Road, Stop 6201, Fort Belvoir, VA 22060-6201.

NOTIFICATION PROCEDURES:

Individuals seeking to determine whether records about themselves is contained in this system of records should address written inquiries to the Defense Threat Reduction Agency, Policy & Program Development Division, 8725 John J. Kingman Road, Stop 6201, Fort Belvoir, VA 22060-6201.

Current DTRA employees may determine whether information about themselves is contained in subsets to the master file by accessing the system through their assigned DTRA computer or by contacting their immediate supervisor.

RECORD ACCESS PROCEDURES:

Individuals seeking access to records about themselves contained in this system of records should address written inquiries to the Defense Threat Reduction Agency, Policy & Program Development Division, 8725 John J. Kingman Road, Stop 6201, Fort Belvoir, VA 22060-6201.

Current DTRA employees may gain access to data contained in subsets to the master file by accessing the system through their assigned DTRA computer or by contacting their immediate supervisor.

CONTESTING RECORD PROCEDURES:

The DTRA rules for accessing records, for contesting contents, and appealing initial agency determinations are contained in 32 CFR part 318, or may be obtained from the Defense Threat Reduction Agency, Policy & Program Development Division, 8725 John J. Kingman Road, Stop 6201, Fort Belvoir, VA 22060.

RECORD SOURCE CATEGORIES:

Information is obtained from the record subject.

EXEMPTIONS CLAIMED FOR THE SYSTEM:

None.

[FR Doc. E7-24461 Filed 12-17-07; 8:45 am]

BILLING CODE 5001-06-P